DEPARTMENT OF HEALTH AND HUMAN SERVICES

National Committee on Vital and Health Statistics: Meeting

Pursuant to the Federal Advisory Committee Act, the Department of Health and Human Services (HHS) announces the following advisory committee meeting.

NAME: National Committee on Vital and Health Statistics (NCVHS), Full Committee Meeting.

DATES AND TIMES:

Tuesday, March 24, 2020: 9:00 a.m.-5:30 p.m.

Wednesday, March 25, 2020: 8:30 a.m.-3:00 p.m.

PLACE: U.S. Department of Health and Human Services, Hubert H. Humphrey Building, 200 Independence Avenue SW, Rm. 505A, Washington, DC 20201.

STATUS: Open.

PURPOSE: At the March 24-25, 2020 meeting, the Committee will welcome four new NCVHS members, review and discuss a recent request received from the Designated Standard Maintenance Organizations (DSMO), receive briefings from HHS officials to inform discussion of the Committee's workplan, and hold discussions on several health data policy topics.

The Subcommittee on Standards will lead the Committee in a discussion of the most recent change request received from the DSMO taking into consideration input from stakeholders regarding costs and benefits of implementing the most recent version of the National Council for Prescription drug Programs (NCPDP) pharmacy standard (NCPDP F6).

The Health Insurance Portability and Accountability Act (HIPAA) of 1996, as amended,¹ gives statutory authority to the Secretary of Health & Human Services (HHS) to promulgate regulations adopting standards, code sets, and identifiers to support the exchange of electronic health information between covered entities. The standards are for retail pharmacy and medical transactions. New versions of the adopted standards may be brought forward to NCVHS by the standards development organizations (SDOs) or through the DSMO after completion of a consensus-based review and evaluation process.

¹ Along with Section 1104 (c) of the Affordable Care Act.

The Committee's intent is to understand the changes in version F6 and whether there are substantive changes which need to be evaluated that would significantly change the Committee's recommendation to HHS submitted in 2018. There is no change to the Batch Standard Implementation Guide Version 15 and the Subrogation Implementation Guide for Batch Standard Version 10, which were included in the May 2018 NCVHS recommendation. The Committee requests input and comments from the public in advance of this meeting to inform its deliberations about the benefits or costs of changing to this new version. The change request letter and change log are available for review at https://ncvhs.hhs.gov/Letter-to-NCVHS-DSMO-Change-Request-January-21-2020. Please submit comments specific to the impact of the change from version F2 to F6 to NCVHSmail@cdc.gov by close of business Friday, March 13, 2020.

The Subcommittee on Standards will introduce a new project scoping statement for its work on convergence of administrative and clinical data standards using the prior authorization transaction as a use-case. The Subcommittee will also provide an update on its activities in collaboration with the Office of the National Coordinator for Health Information Technology (ONC) and the Health Information Technology Advisory Committee (HITAC) regarding the opportunity for burden reduction through convergence of administrative and clinical data standards using the prior authorization transaction as a use-case.

The Subcommittee on Privacy, Confidentiality and Security will lead a discussion of the full Committee to assess priority areas for focus and activity. HHS agencies will brief the Committee regarding recent and ongoing work to inform the Committee's discussion of the 2020 workplan.

There will be a public comment period on both meeting days. The times and topics are subject to change. Please refer to the posted agenda for any updates.

CONTACT PERSON FOR MORE INFORMATION: Substantive program information may be obtained from Rebecca Hines, MHS, Executive Secretary, NCVHS, National Center for Health Statistics, Centers for Disease Control and Prevention, 3311 Toledo Road, Hyattsville, Maryland 20782, telephone (301) 458-4715. Summaries of meetings and a roster of Committee members are available on the home page of the NCVHS website: www.ncvhs.hhs.gov, where further information including an agenda and instructions to access the broadcast of the meeting will also be posted.

Should you require reasonable accommodation, please contact the CDC Office of Equal Employment Opportunity on (770) 488-3210 as soon as possible.

Dated: February 20, 2020.
Sharon Arnold,
Associate Deputy Assistant Secretary for Planning and Evaluation, Science and Data Policy, Office of the Assistant Secretary for Planning and Evaluation.

[FR Doc. 2020-03981 Filed 2-26-20; 8:45 am]

BILLING CODE 4150-05-P